INTERNATIONAL TRADE COMMISSION

[Investigation No. 337-TA-1415]

Certain Pre-Stretched Synthetic Braiding Hair and Packaging Therefor; Notice of a Commission Determination Not To Review Initial Determination Granting Complainant's Motion To Amend the Complaint and Notice of Investigation

AGENCY: U.S. International Trade Commission.

ACTION: Notice.

SUMMARY: Notice is hereby given that the U.S. International Trade Commission has determined not to review an initial determination (“ID”) (Order No. 15) issued by the presiding chief administrative law judge (“CALJ”) granting complainant JBS Hair, Inc.'s (“JBS Hair”) motion for leave to amend the complaint and notice of investigation to add JMS Trading Corp. (“JMS Trading”) of Buena Park, CA as a respondent to this investigation and to make several ministerial updates to the complaint.

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On September 4, 2024, the Commission instituted this investigation based on a complaint filed by JBS Hair of Atlanta, GA. 89 FR 73123-24 (Sept. 9, 2024). The complaint alleges violations of section 337 of the Tariff Act of 1930, as amended, 19 U.S.C. 1337, based upon the importation into the United States, the sale for importation, and the sale within the United States after importation of certain pre-stretched synthetic braiding hair and packaging therefor by reason of the infringement of certain claims of U.S. Patent Nos. 10,786,026 (“the '026 patent”); 10,945,478 (“the '478 patent”); and 10,980,301 (“the '301 patent”). The Commission's notice of investigation (“NOI”) named the following respondents: (1) Sun Taiyang Co., Ltd. d/b/a Outre® of Moonachie, NJ; (2) Beauty Elements Corporation d/b/a Bijouz® of Miami Gardens, FL; (3) Hair Zone, Inc. d/b/a Sensationnel® of Moonachie, NJ; (4) Beauty Essence, Inc. d/b/a Supreme™ Hair US of Moonachie, NJ; (5) SLI Production Corp. d/b/a It's a Wig! of Moonachie, NJ; (6) Royal Imex, Inc. d/b/a Zury® Hollywood of Santa Fe Springs, CA; (7) GS Imports, Inc. d/b/a Golden State Imports, Inc.' of Paramount, CA; (8) Eve Hair, Inc. of Lakewood, CA; (9) Kum Kang Trading USA, Inc. d/b/a BNGHAIR of Paramount, CA (“Kum Kang”); (10) Midway International, Inc. d/b/a BOBBI BOSS of Cerritos, CA; (11) Mayde Beauty Inc. of Port Washington, NY; (12) Hair Plus Trading Co., Inc. d/b/a Femi Collection of Suwanee, GA; (13) Optimum Solution Group LLC d/b/a Oh Yes Hair of Duluth, GA; (14) Chois International, Inc. of Norcross, GA; (15) Twin Peak International, Inc. d/b/a Dejavu Hair of Atlanta, GA; (16) Loc N Products, LLC of Atlanta, Georgia; (17) Crown Pacific Group Inc. of Doraville, GA; (18) Vivace, Inc. d/b/a Dae Do Inc. of Levittown, NY; (19) A-Hair Import Inc. of Norcross, GA ; (20) Chade Fashions, Inc. of Niles, IL; (21) Mink Hair, Ltd. d/b/a Sensual® Collection of Wayne, NJ (“Mink Hair”); (22) Mane Concept Inc. of Moonachie, NJ; (23) Oradell International Corp. d/b/a MOTOWN TRESS of Manalapan, NJ (“Oradell”); (24) Beauty Plus Trading Co., Inc. d/b/a Janet Collection™ of Moonachie, NJ; (25) Model Model Hair Fashion, Inc. of Port Washington, NY; (26) New Jigu Trading Corp. d/b/a Harlem 125® of Port Washington, NY; (27) Shake N Go Fashion, Inc. of Port Washington, NY; (28) Amekor Industries, Inc. d/b/a Vivica A. Fox® Hair Collection of Conshohocken, PA; (29) I & I Hair Corp. of Dallas, TX (“I & I Hair”); (30) Zugoo Import Inc. of Norcross, GA. Id. The Office of Unfair Import Investigations (“OUII”) was also named as a party in this investigation. Id. at 73124.

On October 8, 2024, JBS Hair moved for leave to amend the complaint and notice of investigation to add JMS Trading as a respondent to this investigation and to make several ministerial updates to the complaint. ID at 1. JBS Hair's motion attached a “proposed amendment adding Respondent JMS Trading” and a redline showing the changes to the current complaint. On October 18, 2024, OUII filed a response in support of the motion. Id. On the same day, a number of respondents filed a response stating that they “do not oppose the addition of JMS Trading provided that . . . the target date and procedural schedule are extended by an amount of time equal to the time that elapses between the institution of this Investigation and the ultimate addition of JMS Trading.” Id. at 2.

On November 4, 2024, the presiding CALJ issued the subject ID (Order No. 15), pursuant to Commission Rule 210.14(b) (19 CFR 210.14(b)), granting Complainants' motion to amend the complaint and NOI as requested. The ID finds that that the amendments “will not prejudice respondents, the proposed respondent, Staff, or the public interest,” and that “JBS Hair has shown good cause to amend the complaint and notice of investigation to add allegations that JMS Trading has violated section 337.” Id. at 4. The ID also finds that “there is good cause to make the ministerial updates to the complaint that JBS Hair proposes.” Id. The CALJ denied the respondents' request to extend the target date and procedural schedule.

No party filed a petition for review of the subject ID.

The Commission has determined not to review the subject ID (Order No. 15).

The Commission vote for this determination took place on December 2, 2024.

The authority for the Commission's determination is contained in section 337 of the Tariff Act of 1930, as amended (19 U.S.C. 1337), and in part 210 of the Commission's Rules of Practice and Procedure (19 CFR part 210).

By order of the Commission.
Issued: December 2, 2024.
Lisa Barton,
Secretary to the Commission.

[FR Doc. 2024-28527 Filed 12-5-24; 8:45 am]

BILLING CODE 7020-02-P